FEDERAL COMMUNICATIONS COMMISSION

[FR ID 137517]

Deletion of Items From April 20, 2023 Open Meeting

April 19, 2023.

The following items were adopted by the Commission and deleted from the list of items scheduled for consideration at the Thursday, April 20, 2023, Open Meeting. Item #4 was adopted on April 18, 2023. Item #7 was adopted and released on April 17, 2023. Both items were previously listed in the Commission's Sunshine Notice on Thursday, April 13, 2023.

4 | Office of Engineering and Technology | Title: Amendment of the Commission's Rules Regarding Implementation of the Final Acts of the World Radiocommunication Conference (Sharm el-Sheikh, 2019) (WRC-19), Other Allocation Issues, and Related Rule Updates (ET Docket No. 23-121); Amendment of the Commission's Rules Regarding Implementation of the Final Acts of the World Radiocommunication Conference (Geneva, 2015) (WRC-15), Other Allocation Issues, and Related Rule Updates (ET Docket No. 23-120); Amendment of Parts 2 and 97 of the Commission's Rules Regarding Implementation of the Final Acts of the World Radiocommunication Conference (Geneva, 2015) To Allocate the Band 5351.5-5366.5 kHz to the Amateur Radio Service; (RM-11785). Summary: The Commission will consider an Order to make updates to the International Allocation Table to reflect the International Telecommunication Union Radio Regulations (Edition of 2020) and make other non-substantive, editorial revisions. The Commission will also consider a Notice of Proposed Rulemaking that would seek comment on implementing certain of the remaining radiofrequency allocation decisions from the 2015 World Radiocommunication Conference. The NPRM would propose allocation changes and related updates to service rules.
7 | Media | Title: Amendment of Parts 73 and 74 of the Commission's Rules to Establish Rules for Digital Low Power Television and Television Translator Stations (MB Docket No. 03-185); Update of Part 74 of the Commission's Rules Related to Low Power Television and Television Translator Stations (MB Docket No. 22-261). Summary: The Commission will consider an Order that would amend its Part 74 rules for low-power television and television translators to remove obsolete rules for analog TV operations.

Federal Communications Commission.
Marlene Dortch,
Secretary.

[FR Doc. 2023-08628 Filed 4-24-23; 8:45 am]

BILLING CODE 6712-01-P